DEPARTMENT OF HOMELAND SECURITY

U.S. Customs and Border Protection

Approval of International Marine Consultants (San Juan, PR) as a Commercial Gauger

AGENCY: U.S. Customs and Border Protection, Department of Homeland Security.

ACTION: Notice of approval of International Marine Consultants (San Juan, PR), as a commercial gauger.

SUMMARY: Notice is hereby given, pursuant to CBP regulations, that International Marine Consultants (San Juan, PR), has been approved to gauge petroleum and certain petroleum products for customs purposes for the next three years as of October 2, 2024.

DATES: International Marine Consultants (San Juan, PR) was approved as a commercial gauger as of October 2, 2024. The next triennial inspection date will be scheduled for October 2027.

FOR FURTHER INFORMATION CONTACT: Dr. Laura Granell-Ortiz, Laboratories and Scientific Services, U.S. Customs and Border Protection, 1331 Pennsylvania Avenue NW, Suite 1501A North, Washington, DC 20004, tel. 202-344-1060.

SUPPLEMENTARY INFORMATION: Notice is hereby given pursuant to 19 CFR 151.13, that International Marine Consultants, 429 Padre Rufo St., San Juan, PR 00917, has been approved to gauge petroleum and certain petroleum products for customs purposes, in accordance with the provisions of 19 CFR 151.13.

International Marine Consultants (San Juan, PR) is approved for the following gauging procedures for petroleum and certain petroleum products from the American Petroleum Institute (API):

API Chapters | Title
3 | Tank Gauging.
7 | Temperature Determination.
12 | Calculation of Petroleum Quantities.
17 | Marine Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories

Lina M. Acosta,
Acting Laboratory Director, Houston, Laboratories and Scientific Services.

[FR Doc. 2025-15821 Filed 8-19-25; 8:45 am]

BILLING CODE 9111-14-P